DEPARTMENT OF ENERGY

Federal Energy Regulatory Commission

Combined Notice of Filings #1

November 18, 2010.

Take notice that the Commission received the following electric rate filings:

Docket Numbers: ER10-2933-001.

Applicants: ISO New England Inc.

Description: ISO New England Inc. submits tariff filing per 35: Notice of Effective Date for Unsecured Credit Revisions ER10-2933 to be effective 1/26/2011.

Filed Date: 11/18/2010.

Accession Number: 20101118-5046.

Comment Date: 5 p.m. Eastern Time on Thursday, December 9, 2010.

Docket Numbers: ER10-3018-001.

Applicants: Delmarva Power & Light Company.

Description: Delmarva Power & Light Company submits compliance filing to remove First Revised Volume No. 1 designation on its Market Based Rate Tariff, to be effective 9/27/2010.

Filed Date: 11/18/2010.

Accession Number: 20101118-5000.

Comment Date: 5 p.m. Eastern Time on Thursday, December 9, 2010.

Docket Numbers: ER10-3150-001.

Applicants: Sunoco Power Generation LLC.

Description: Sunoco Power Generation LLC submits tariff filing per 35: Sunoco Power Generation Baseline Filing to be effective 11/18/2010.

Filed Date: 11/18/2010.

Accession Number: 20101118-5063.

Comment Date: 5 p.m. Eastern Time on Thursday, December 9, 2010.

Docket Numbers: ER10-3183-001.

Applicants: Sunoco Power Marketing, LLC.

Description: Sunoco Power Marketing, LLC submits tariff filing per 35: Sunoco Power Marketing Baseline Filing to be effective 11/18/2010.

Filed Date: 11/18/2010.

Accession Number: 20101118-5062.

Comment Date: 5 p.m. Eastern Time on Thursday, December 9, 2010.

Docket Numbers: ER11-44-001.

Applicants: Pacific Gas and Electric Company.

Description: Pacific Gas and Electric Company submits rate changes to their Transmission Owner Tariff, FERC Electric Tariff Volume No. 5, to update its Transmission Revenue Balancing Account etc., to be effective 3/1/2010.

Filed Date: 11/18/2010.

Accession Number: 20101118-5001.

Comment Date: 5 p.m. Eastern Time on Thursday, December 9, 2010.

Docket Numbers: ER11-125-000.

Applicants: Intercom Energy, Inc.

Description: Intercom Energy, Inc. submits supplement to Order No. 697 Compliance Filing and Request for Category 1 Status.

Filed Date: 11/17/2010.

Accession Number: 20101117-5219.

Comment Date: 5 p.m. Eastern Time on Wednesday, December 8, 2010.

Docket Numbers: ER11-1935-000.

Applicants: Madison Paper Industries.

Description: Madison Paper Industries submits tariff filing per 35: Baseline Filing to be effective 3/1/2009.

Filed Date: 10/28/2010.

Accession Number: 20101028-5136.

Comment Date: 5 p.m. Eastern Time on Friday, November 26, 2010.

Docket Numbers: ER11-2032-001.

Applicants: New Harvest Wind Project LLC.

Description: New Harvest Wind Project LLC submits tariff filing per 35.17(b): Amendment to Market-Based Rate Application to be effective 1/3/2011.

Filed Date: 11/18/2010.

Accession Number: 20101118-5028.

Comment Date: 5 p.m. Eastern Time on Thursday, December 9, 2010.

Docket Numbers: ER11-2112-001.

Applicants: Blue Creek Wind Farm LLC.

Description: Blue Creek Wind Farm LLC submits tariff filing per 35.17(b): Amendment to Market-Based Rate Application to be effective 1/14/2011.

Filed Date: 11/18/2010.

Accession Number: 20101118-5029.

Comment Date: 5 p.m. Eastern Time on Thursday, December 9, 2010.

Docket Numbers: ER11-2143-000.

Applicants: Northern Maine Independent System Administrator, Inc.

Description: Northern Maine Independent System Administrator, Inc. submits tariff filing per 35.1: Baseline Market Rules Refiling to be effective 9/30/2010.

Filed Date: 11/18/2010.

Accession Number: 20101118-5018.

Comment Date: 5 p.m. Eastern Time on Thursday, December 9, 2010.

Docket Numbers: ER11-2144-000.

Applicants: PacifiCorp.

Description: PacifiCorp submits tariff filing per 35.13(a)(2)(iii): Helper City Morgantown POD Construction Agreement to be effective 11/3/2010.

Filed Date: 11/18/2010.

Accession Number: 20101118-5032.

Comment Date: 5 p.m. Eastern Time on Thursday, December 9, 2010.

Docket Numbers: ER11-2145-000.

Applicants: Southern California Edison Company.

Description: Southern California Edison Company submits tariff filing per 35.13(a)(2)(iii): SGIA & Service Agmt with SCE-GBU 1.5MW-Site 18 Solar Project to be effective 11/19/2010.

Filed Date: 11/18/2010.

Accession Number: 20101118-5033.

Comment Date: 5 p.m. Eastern Time on Thursday, December 9, 2010.

Docket Numbers: ER11-2146-000.

Applicants: Vermont Transco, LLC.

Description: Vermont Transco, LLC submits tariff filing per 35.1: Baseline Filing of Rate Schedule No. 7 (Substation Participation Agreement) to be effective 11/18/2010.

Filed Date: 11/18/2010.

Accession Number: 20101118-5045.

Comment Date: 5 p.m. Eastern Time on Thursday, December 9, 2010.

Docket Numbers: ER11-2147-000.

Applicants: Southwest Power Pool, Inc.

Description: Southwest Power Pool, Inc. submits tariff filing per 35.13(a)(2)(iii): 1522R1 Kansas City Power & Light Company LGIA to be effective 10/20/2010.

Filed Date: 11/18/2010.

Accession Number: 20101118-5058.

Comment Date: 5 p.m. Eastern Time on Thursday, December 9, 2010.

Docket Numbers: ER11-2148-000.

Applicants: Ameren Illinois Company.

Description: Ameren Illinois Company submits tariff filing per 35.13(a)(2)(iii): Amendment C to Legacy Service Agreements to be effective 12/31/9998.

Filed Date: 11/18/2010.

Accession Number: 20101118-5064.

Comment Date: 5 p.m. Eastern Time on Thursday, December 9, 2010.

Docket Numbers: ER11-2149-000.

Applicants: Idaho Power Company.

Description: Idaho Power Company submits tariff filing per 35.12: Borah-Populus #2 Series Capacitor Maintenance Agreement to be effective 12/1/2010.

Filed Date: 11/18/2010.

Accession Number: 20101118-5072.

Comment Date: 5 p.m. Eastern Time on Thursday, December 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please email FERCOnlineSupport@ferc.gov. or call (866) 208-3676 (toll free). For TTY, call (202) 502-8659.

Nathaniel J. Davis, Sr.,
Deputy Secretary.

[FR Doc. 2010-30057 Filed 11-29-10; 8:45 am]

BILLING CODE 6717-01-P